DEPARTMENT OF EDUCATION

34 CFR Chapter VI

[Docket ID ED-2025-0151]

Contingent Additional Meeting Dates for Negotiated Rulemaking Committee

AGENCY: Office of Postsecondary Education, Department of Education.

ACTION: Contingent change to meeting dates.

SUMMARY: The Department of Education announced in the Federal Register on July 25, 2025, that it will host a meeting for the RISE Rulemaking Committee from September 29 to October 3, 2025. In this notice, the Department announces the addition of contingent virtual meeting dates of October 15-17, 2025, for the RISE Negotiated Rulemaking Committee in the event of an appropriation lapse that prevents the Committee from meeting in-person at the U.S. Department of Education on October 1-3, 2025. This rulemaking is necessary to implement recent statutory changes to the Title IV, Higher Education Act programs in the One Big Beautiful Bill Act that President Trump signed into law on July 4, 2025, as well as to implement other Administration priorities.

DATES: In the event of cancellation of the in-person meetings announced for October 1-3, due to a lapse in appropriation, the Committee will meet virtually on October 15-17, from 9:00 a.m. to 12:00 p.m. and 1:00 p.m. to 4:00 p.m. Eastern time. During these times, the committees may temporarily recess for caucuses or work sessions to develop new regulatory language for consideration by the full committee.

ADDRESSES: The meeting will be held virtually. We will post a registration link on our website at https://www.ed.gov/laws-and-policy/higher-education-laws-and-policy/higher-educationpolicy/negotiated-rulemaking-for-higher-education-2025-2026 prior to the meeting dates.

FOR FURTHER INFORMATION CONTACT:

For general information about negotiated rulemaking, see the Frequently Asked Questions Section of the Negotiated Rulemaking Process for Title IV regulations website at: https://www.ed.gov/laws-and-policy/higher-education-laws-and-policy/negotiated-rulemaking-process-title-iv-regulations-frequently-asked-questions.

For information about the virtual public hearing, or for additional information about negotiated rulemaking, contact: Tamy Abernathy, U.S. Department of Education, Office of Postsecondary Education, 400 Maryland Avenue SW, 5th floor, Washington, DC 20202. Telephone: (202) 245-4595. Email: NegRegNPRMHelp@ed.gov.

If you are deaf, hard of hearing, or have a speech disability and wish to access telecommunications relay services, please dial 7-1-1.

SUPPLEMENTARY INFORMATION: The Department of Education announced in the Federal Register on July 25, 2025, that it will host a meeting for the RISE Rulemaking Committee from September 29 to October 3, 2025. The Department is now announcing the addition of contingent virtual meeting dates of October 15-17, 2025, for the RISE Negotiated Rulemaking Committee in the event of an appropriation lapse that prevents the Committee from meeting in-person at the U.S. Department of Education on October 1-3, 2025.

This rulemaking is necessary to implement recent statutory changes to the Title IV, Higher Education Act programs in the One Big Beautiful Bill Act, Pub. L. 119-21, that President Trump signed into law on July 4, 2025, as well as to implement other Administration priorities.

In the event of cancellation of the in-person meetings occurring on October 1-3, due to a lapse in appropriation, the Committee will meet virtually on October 15-17, from 9:00 a.m. to 12:00 p.m. and 1:00 p.m. to 4:00 p.m. Eastern time. During these times, the committees may temporarily recess for caucuses or work sessions to develop new regulatory language for consideration by the full committee.

Reasonable Accommodations: The rulemaking sessions will be accessible to individuals with disabilities. If you need an auxiliary aid or service, please notify the person listed under FOR FURTHER INFORMATION CONTACT in this notice before the scheduled meeting date.

Registration is also required to view the virtual hearing. American Sign Language translation and closed captioning will be provided for the virtual hearing. We will post registration links for attendees who wish to observe on our website at https://www.ed.gov/laws-and-policy/higher-education-laws-and-policy/higher-education-policy/negotiated-rulemaking-for-higher-education-2025-2026. The Department will also post transcripts of the negotiations on that site.

The additional meeting will be conducted virtually and be available for the public to watch via livestream on the internet. Registration is required to observe the meeting via livestream. We will post a registration link on our website at https://www.ed.gov/laws-and-policy/higher-education-laws-and-policy/higher-educationpolicy/negotiated-rulemaking-for-higher-education-2025-2026 prior to the meeting dates.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At that site you can view this document, as well as all other documents of this Department published in the Federal Register, in text or portable document format (PDF). To use PDF, you must have Adobe Acrobat Reader, which is available for free on the site. You may also access documents of the Department published in the Federal Register by using the article search feature at www.federalregister.gov. Specifically, through the advanced search feature at this site, you can limit your search to documents published by the Department.

Program Authority: 20 U.S.C 1098a.

Christopher J. McCaghren,
Acting Assistant Secretary, Office of Postsecondary Education.

[FR Doc. 2025-19019 Filed 9-29-25; 8:45 am]

BILLING CODE 4000-01-P